DEPARTMENT OF THE INTERIOR

Bureau of Ocean Energy Management

[Docket No. BOEM-2024-0004]

Notice of Availability of a Draft Environmental Assessment for Commercial Wind Lease Issuance and Site Assessment Activities on the Atlantic Outer Continental Shelf Offshore Delaware, Maryland, and Virginia

AGENCY: Bureau of Ocean Energy Management, Interior.

ACTION: Notice of availability; request for comments.

SUMMARY: The Bureau of Ocean Energy Management (BOEM) announces the availability of a draft environmental assessment (EA) to consider the potential environmental impacts associated with possible wind energy-related leasing, site assessment, and site characterization activities on the U.S. Atlantic Outer Continental Shelf (OCS). This notice of availability (NOA) announces the start of the public review and comment period, as well as the dates and times for public meetings on the draft EA. After BOEM holds the public meetings and addresses public comments submitted during the review period, BOEM will publish a final EA. The EA will inform BOEM's decision whether to issue wind energy leases in the Central Atlantic Wind Energy Areas (WEAs).

DATES: Comments must be received no later than February 12, 2024. BOEM's virtual public meetings will be held on the following dates at the times (eastern time) indicated.

• Tuesday, January 30; 5:00 p.m.

• Thursday, February 1; 1:00 p.m.

Registration for the virtual public meeting is required and may be completed at https://www.boem.gov/renewable-energy/state-activities/central-atlantic. Meeting information will be sent to registrants via their email address provided during registration.

ADDRESSES: The draft EA and detailed information about the Central Atlantic WEAs can be found on BOEM's website at: https://www.boem.gov/renewable-energy/state-activities/central-atlantic. Comments can be submitted in any of the following ways:

• Orally or in written form during any of the public meetings identified in this NOA.

• In written form by mail or any other delivery service, enclosed in an envelope labeled “Central Atlantic Wind Leasing EA” and addressed to Chief, Office of Renewable Energy Programs, Bureau of Ocean Energy Management, 45600 Woodland Road, Mailstop VAM-OREP, Sterling, VA 20166.

• Through the regulations.gov web portal: Navigate to https://www.regulations.gov and search for Docket No. BOEM-2024-0004. Click on the “Comment” button below the document link. Enter your information and comment, then click “Submit Comment.”

For more information about submitting comments, please see “Information on Submitting Comments” under the SUPPLEMENTARY INFORMATION heading below.

FOR FURTHER INFORMATION CONTACT: Jessica Stromberg, BOEM Office of Renewable Energy Programs, 45600 Woodland Road, VAM-OREP, Sterling, Virginia 20166, (703) 787-1730 or jessica.stromberg@boem.gov.

SUPPLEMENTARY INFORMATION:

Proposed Action: The draft EA analyzes the proposed action, which is issuing wind energy leases in the Central Atlantic WEAs, and the no action alternative. The lease sale itself would not authorize any activities on the OCS. Therefore, the EA considers the reasonably foreseeable environmental consequences of site characterization surveys (i.e., biological, archeological, geological and geophysical surveys, and core samples) and site assessment activities (i.e., installation of meteorological buoys), which are expected to take place following lease issuance. BOEM decided to prepare an EA for this proposed action in order to assist the agency's planning and decision-making (40 CFR 1501.5(b)).

Availability of the Draft EA: The draft EA and associated information are available on BOEM's website at: https://www.boem.gov/renewable-energy/state-activities/central-atlantic. If you require a digital copy on a flash drive or a paper copy, BOEM will provide one upon request, if supplies are available. You may request a flash drive or paper copy of the draft EA by contacting Lisa Landers at (703) 787-1520 or lisa.landers@boem.gov.

Cooperating Agencies: The following Federal agencies participated as cooperating agencies in the preparation of the draft EA: the Bureau of Safety and Environmental Enforcement, National Marine Fisheries Service, U.S. Army Corps of Engineers, and the Environmental Protection Agency. The Town of Ocean City, Maryland, also participated as a cooperating agency in the preparation of the draft EA.

Information on Submitting Comments: All comments from identified individuals, businesses, and organizations will be available for public viewing on regulations.gov. Note that BOEM will make available for public inspection all comments submitted by organizations and businesses, or by individuals identifying themselves as representatives of organizations or businesses.

a. Freedom of Information Act

BOEM will protect privileged or confidential information that you submit as required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of information or any comments not containing privileged or confidential information. Information that is not labeled as privileged or confidential may be regarded by BOEM as suitable for public release.

b. Personally Identifiable Information

BOEM discourages anonymous comments. Please include your name and address as part of your comment. You should be aware that your entire comment, including your name, address, and any other personally identifiable information (PII) that you include, may be made publicly available.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this notice, your comment is subject to FOIA. If your comment is requested under FOIA, BOEM will withhold your information only if it determines that one of FOIA's exemptions to disclosure applies. Such a determination will be made in accordance with the Department's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of NHPA as confidential.

Authority: 42 U.S.C. 4231 et seq. (NEPA, as amended) and 40 CFR 1506.6.

Karen J. Baker,
Chief, Office of Renewable Energy Programs, Bureau of Ocean Energy Management.

[FR Doc. 2024-00513 Filed 1-11-24; 8:45 am]

BILLING CODE 4340-98-P